FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
012367N | Maritime Express, Inc., 12613 Executive Drive, #700, Stafford, TX 77477 | November 26, 2008.
021284N | USTC America, Inc., 1250 E. 223rd Street, Suite 107, Carson, CA 90745 | December 7, 2008.

Sandra L. Kusumoto,
Director, Bureau of Certification and Licensing.

[FR Doc. E9-2924 Filed 2-10-09; 8:45 am]

BILLING CODE 6730-01-P